LIBRARY OF CONGRESS

Copyright Office

[Docket No. 2019-2]

Copyright Restoration of Works in Accordance with the Uruguay Round Agreements Act

AGENCY: U.S. Copyright Office, Library of Congress.

ACTION: Publication of list identifying copyrights restored under the Uruguay Round Agreements Act for which a Notice of Intent to Enforce restored copyrights was filed in the U.S. Copyright Office.

SUMMARY: The U.S. Copyright Office is publishing a list of works for which it has received and processed a Notice of Intent to Enforce copyrights restored under the Uruguay Round Agreements Act. The Office is required by law to publish such lists to provide a public record of works in which copyrights have been restored and whose owners have notified the Office of their intent to enforce those copyrights. In addition, publication triggers the statutory 12-month grace period within which reliance parties may continue to exploit existing copies of the identified works.

DATES: February 4, 2019.

FOR FURTHER INFORMATION CONTACT: Regan A. Smith, General Counsel and Associate Register of Copyrights, at regans@copyright.gov; or Kevin R. Amer, Senior Counsel for Policy and International Affairs, at kamer@copyright.gov. Each may be reached by telephone at 202-707-8350.

SUPPLEMENTARY INFORMATION:

I. Background

The Uruguay Round Agreements Act (“URAA”) ¹ provides for the restoration of copyright in certain works of foreign origin that previously were in the public domain in the United States. Enacted in 1994 to implement U.S. obligations under the Agreement on Trade-Related Aspects of Intellectual Property Rights (“TRIPS”) of the World Trade Organization (“WTO”), the URAA extends copyright to works that are protected in nations adhering to certain international copyright agreements to which the United States is a party, but that were unprotected in the United States for any of three reasons: (1) Noncompliance with formalities imposed at any time by United States copyright law, including failure of renewal, publishing the work without a proper notice, or failure to comply with any manufacturing requirements; (2) lack of subject matter protection in the case of sound recordings fixed before February 15, 1972; or (3) lack of national eligibility (i.e., the work is from a country with which the United States did not have copyright relations at the time of the work's publication).² A work meeting these criteria is protected “for the remainder of the term of copyright that the work would have otherwise been granted in the United States if the work never entered the public domain in the United States.” ³

¹ Public Law 103-465, 108 Stat. 4809 (1994).

² 17 U.S.C. 104A(h)(6).

³ Id. 104A(a)(1)(B).

Under the URAA, copyright in restored works vests automatically on the date of restoration.⁴ That date was January 1, 1996, if the work's source country was already a member of the WTO or the Berne Convention for the Protection of Literary and Artistic Works (“Berne Convention”) as of that date. Otherwise, the date of restoration is the earliest of (1) the date the source country becomes a WTO member, (2) the date of the country's adherence to the Berne Convention, the WIPO Copyright Treaty, or the WIPO Performances and Phonograms Treaty, or (3) the date when the President issues a proclamation extending copyright restoration to that country.⁵ For a published work, the “source country” is the eligible country in which the work is first published or, in the case of a work published on the same day in multiple countries, the eligible country with the most significant contacts with the work.⁶ For an unpublished work, the source country is (1) the eligible country in which the author or rightholder is a national or domiciliary, (2) if the work has multiple authors or rightholders, the country in which the majority of foreign authors or rightholders are nationals or domiciliaries, or (3) the nation other than the United States with the most significant contacts with the work, in cases where the majority of authors or rightholders are not foreign.⁷

⁴ Id. 104A(a)(1)(A).

⁵ Id. 104A(h)(1)-(2).

⁶ Id. 104(h)(8)(C).

⁷ Id. 104A(h)(8)(B).

Although the copyright owner may immediately enforce the restored copyright against individuals who infringe his or her rights on or after the date of restoration, the copyright owner's right to enforce the restored copyright is delayed against “reliance parties.” Typically, a reliance party is one who was already using the work before the source country became eligible for copyright restoration.⁸ Before a copyright owner can enforce a restored copyright against a reliance party, the copyright owner must file a Notice of Intent to Enforce the copyright (“NIE”) with the Copyright Office or serve an NIE on such a party.⁹ Thereafter, reliance parties may continue to exploit existing copies of the work for a twelve-month grace period.¹⁰

⁸ Id. 104A(h)(4).

⁹ Id. 104A(d)(2).

¹⁰ Id. 104A(d)(2)(A)(ii), (B)(ii).

An NIE may be filed in the Copyright Office within twenty-four months after the date of restoration of copyright.¹¹ NIEs appropriately filed with the Copyright Office and published in the Federal Register serve as constructive notice to all reliance parties.¹² Alternatively, an owner may serve an NIE on an individual reliance party at any time after the date of restoration.¹³ Such notices, however, are effective only against the party served and other reliance parties who have actual knowledge of the notice and its contents.¹⁴

¹¹ Id. 104A(d)(2)(A)(i).

¹² Id. 104A(c).

¹³ Id. 104A(e)(2)(A).

¹⁴ Id. 104A(c).

The Copyright Office is directed to “publish in the Federal Register, commencing not later than 4 months after the date of restoration for a particular nation and every 4 months thereafter for a period of 2 years, lists identifying restored works and the ownership thereof if a notice of intent to enforce a restored copyright has been filed.” ¹⁵ The Office does not research the facts stated in an NIE to determine whether a work is or is not eligible for restoration or whether the submitter has asserted a valid claim of copyright ownership. Nor does the Office adjudicate between competing parties who have filed NIEs for the same works.¹⁶ Accordingly, the Office's publication of a list of works for which an NIE has been filed indicates only that one or more parties have claimed rights in those works; it does not represent a determination by the Office that those claims are valid. In all cases, the validity of such a claim is governed by the terms of the applicable law, including the URAA, as applied to the relevant facts.

¹⁵ Id. 104A(e)(1)(B)(i).

¹⁶ Under the URAA, however, a material false statement knowingly made with respect to any restored copyright identified in an NIE “shall make void all claims and assertions made with respect to such restored copyright.” Id. 104A(e)(3).

II. List of Works for Which a Notice of Intent To Enforce Was Received

On July 24, 2018, an NIE was filed with the Copyright Office on behalf of Fakhria Zahir, who claims ownership of restored copyrights in 447 sound recordings. The NIE identifies Afghanistan as the source country for each of these works. Afghanistan became a WTO member on July 26, 2016, prior to its adherence to any of the other international agreements relevant to copyright restoration under the statute.¹⁷ Therefore, U.S. copyrights in eligible works for which Afghanistan is the source country were restored on that date. Because the NIE was filed with the Office within twenty-four months after restoration, it is timely for purposes of securing publication in the Federal Register.¹⁸

¹⁷ See Afghanistan and the WTO, World Trade Organization, https://www.wto.org/english/thewto_e/countries_e/afghanistan_e.htm (last visited Jan. 29, 2019); U.S. Copyright Office, Circular 38A: International Copyright Relations of the United States, at 4 (2019), available at https://www.copyright.gov/circs/circ38a.pdf (noting Afghanistan's adherence to the Berne Convention as of Jun. 2, 2018). Afghanistan has not been the subject of a presidential proclamation of copyright restoration.

¹⁸ Due to unintended delays in the routing and processing of this NIE, publication has been delayed beyond the four-month period set forth in the statute.

Accordingly, the Office is publishing the following list of works identified in the NIE:

Aasheq Shodam Gunaham Hameen Ast

Abroha Bar Qolaha

Abroha Gul Ha

Afsoos

Agar Bahar Beyayad

Agar Bahar Biyayad (home recording version)

Agar Ein Asoman Setara

Agar Ishq Bashad

Agar Maikhara Wa Mastam

Agar Penhan Bowad Paida

Agar Sabza Bodam

Agar Sabza Boodam (home recording version)

Agar Tu Yarake Man Bashi (home recording version)

Agar tu Yarakeman Bashi

Agar Ze Khalq Malamat

Agar Ze Khalq Malamat (home recording version)

Aghaz Gashta Zendagi (Choon Sahar)

Ah Chee Khosh Amadi

Ahange Zindagi

Ahesta Bero

Ai Yar Khoob Royan

Aiy Bewafa Bewafa

Aiy Dusitan Eh Dusitan

Aiy Naigarai Man

Aiy Padesha Khoban

Akherin Shame Aashenaye Maa

Akhir ay Darya

Akhir Ay Darya (home recording version)

Amad Nafase Sobho

Amrahan Judayee Maslahat Neist

Asheqam Asheq Ba Royat

Ashiq Shodam Gowaham

Ashiq Shudayie Hay Dil

Ashiqe Royat Man

Ashko Haye Man Hamchon

Asoman Ay Asoman

Asoman Khaleest

Asoman Khalist (home recording version)

Awaleen Eshqam Tu Boodi (home recording version)

Awaleen Ishqam To Bodi

Awara Bechara Qalbe Man

Awara Bechara Qalbe Man (home recording version)

Ay Aahe Sahargah Tu

Ay Badida am Tarik

Ay Bekhabar Az Darde Man

Ay Bekhabar Az Darde Man (home recording version)

Ay Bewafa Ay Bewafa

Ay Bote Berahem

Ay Bulbule Khosh Elhan

Ay Dil Ay Dil

Ay Dil Tu Gerya Kam Kon

Ay dozdida chashm

Ay Gulezare Man

Ay Hamwatan Ay Neroyee

Ay Ishq

Ay Ishq Tu Wai Ra Na

Ay Jane Man Asirat

Ay Jane Man Asirat (home recording version)

Ay Ke Az Kelke Honar

Ay ke az Yaar Neshan

Ay Mahe Kenhanie Man

Ay Naame Ghamat Taranaye Man

Ay Name Ghamat Taranaye Man (home recording version)

Ay Nazanin Az Ishqe Tu

Ay Nazanin Dar Eshqe Tu (home recording version)

Ay Negahat Sabztar

Ay Nilagoon Daryaye Man

Ay Padshahe Khooban

Ay Qawme Ba Haj Rafta

Ay Rashke Gul Ha

Ay Rasht Gulha

Ay Sarban Ahesta Raw

Ay Sarban Ahesta Raw (home recording version)

Ay Sholay Azin

Ay Surode Wapasinam

Ay Tere Ghamat Ra

Ay Yare Khobe Man

Ay Yare Khobe Man (home recording version)

Aya sayad rahme kon

Az An Roz Ke Payman

Az Asheeyaan Juda Gashta

Az Bara-e Gham-e Man

Az Baraye Ghame Man

Az Baraye Ghame Man (home recording version)

Az Bast Yadeh Tu

Az Beygonai Tu

Az Dastat Feghan Feghan

Az Ghamat ai Nazinin (home recording version)

Az Ghamat Ay Nazaneen

Az Naazo chi Mekhandani

Az Parda Beeroon Nashaw

Az Peshe Man Beraw

Az Peshe Man Beraw (home recording version)

Az Safar Khosh Amadi

Az Tangnaye Mahbase Tariki

Az Tu Duram

Azizam Ba Yadat Shabhaye

Ba Aan Hama Qawlo Qararo Payman

Ba An Hama Qawl o Qarar

Ba Asoman Begoyed

Ba Atashin Khoye Khod

Ba Azmai Tuba Istakhara Konam

Ba Azme Toba

Ba Daghe Na Moradi Sokhtam

Ba dile man sharar afroz

Ba Juz To Monese Digar

Ba Khabar Bash Ba Khabar

Ba Khod Guftam

Ba Khoda Tang Ast Dilam

Ba Khoda Tang Ast Dilam (home recording version)

Ba Kodam Dar Rawam Man

Ba Saghar Naqel Kard

Ba Saghar Naqel Kard (home recording version)

Ba Sange Gham Zadi

Ba Zameen Pasa

Bacha Nasho Ay Dil

Bad az ein ke Raqib

Bada Ha Khaleest (home recording version)

Bada Ha Khalist

Badwayet Konom

Badwayit Konom (home recording version)

Bahar Amad

Bahar Ast O Saman

Bahare Jawaneyam Raft

Bahare Man Hazar Az Naw

Bahd Az Khuda Yagana Khudaye

Bairaway Da Ghareebaan

Bar Khatere Azada

Baramd Az Pase Koh

Barayam Gerya kon Imshab

Bas Kai Jafa Zekhar O Gul (home recording version)

Baske Jafa Ze Khar o Gul

Baz Amadi Ay Jane Man

Baz Amadi Ay Jane Man (home recording version)

Baz Ayo Kenaram Beneshin

Baz Mekhaham Tura Ay Ishqe Man

Bazi To Kardi

Be Tu Gul Gashte Chaman

Bego Ke Gul Naferestad

Begzar bigiriam Man

Begzar Ta Begeryam

Begzarad Begzarad Omre Man

Begzarad Begzarad Omre Man (home recording version)

Begzaro Ta Begeryam

Beman Ay Shab

Benazam Qalbe Pakat

Berawed Ay Areefan

Bewafa Yaram

Bewafa Yaram (home recording version)

Bewafai Makon Ay Negaram

Beyayed Beyayed Ba Maidane

Beyayed Beyayed Ke Gulzar

Beyayed Beyayed Ke Gulzar (home recording version)

Bia Berem Ba Sangeran

Bimaram o Ghair Az Jigare

Biyayed Biyayed

Bodana Jan Bodana

Borida Bad Paye Man

Borida Bad Paye Man (home recording version)

Bosa Ha Talab Mekonad

Bote Nazaninam

Boye Khush Bahar

Boye To Khizad Hanoz

Boye To Khizad Hanoz (home recording version)

Bulbule Shoridah

Chal Akela Chal Akela

Chal Akela Chal Akela (home recording version)

Chal Chal Mere Saathi

Chashm Ba Rahat Dil ba Yadat

Chashmak Bezan Setara

Chashme Seya Dari

Che Behoda Che Sada

Che Garmi Chi Khubi Sharabi

Che Khahe Goft

Che Khelaf Sar Zad Az Ma

Che Khelaf Sar Zad Az Ma (home recording version)

Che Shod ke Rekht o ba Ham

Chera Dishab Ba Soye Man

Chi Shab Ha Ba Yadat

Chon darakht farwardin

Da Jamhoriat Zamong

Danam Chera Chashmane Tu

Dar Chee Konai Emshaw

Dar Damane Sahra

Dar Konje Dilam

Darakht Yaar Darakht Sabz

Dast Az Talab Nadaram

Delat Mekhast Baraye Tu

Dele Ma Har Chee Risho

Dil Ze Sawdaye Du Chashme

Dilaizar Raika Man

Dilakam Hay Dilakam

Dilakam Hay Dilakam (home recording version)

Dilam Dar Ashiqi Awara Shod

Dilat Mekhat Barayie Tu

Dilbara Gar tu Yaareman Bashi

Dile Devana

Dil-e Diwana

Dile Ma Har Chi Resh

Door Az Tu Har Shab

Dostat Daram Wallah Bellah

Dostet Darom Hamisha

Dozde Ishqam Man o Deshab

Ein Chi Ishqest

Ein Shero Ra Baraye Tu

Elahi Man Namedanam (home recording version)

Ellahi Man Namidanam

Emroz Farda

Emshab Shoda Am Mast

Emshab Shodaim mast

Eshqe Tu Bar Man

Faqat Soze Delam Ra

Gah Dar Aghoshe Ein

Gah Dar Aghoshe Ein (home recording version)

Gar Chi Chashme Tu

Gar chi Mastim O Kharabim

Gar Koni Yak Nezara

Gar Zolfe Porayshanat

Gar Zuif Preshanatu (home recording version)

Garchi Mastim

Goftam Ke Mekhwaham Tura

Gofti Ke Mibosam Tora

Goftom Ke Naro

Gozasht Anke Tu Sarkhile

Gul Sabo Ba Dosh Amad

Gule Sangam Gule Sangam

Gule Sangam Gule Sangam (home recording version)

Haasha Ke Man ba Mowsum

Hai Sharmaon Kis Kis Ko Bataon

Hai Yare Khobe Man

Hama Roz Az To

Hama Yaranam Ba Porayshani

Hama Yaranam Ba Preshani (home recording version)

Hamash Dardo Hamash Ranj

Hamash Dardo Hamash Ranjo Hamash Gham

Hamcho Nai Menalam

Hanoz Bar Labe Man

Har Chando Ke Door

Har Chando Ke Door (home recording version)

Hargez Hargez

Hargez Kasai Baroz

Hargez Kase Ba Roz

Harja Ke Safar Kardam

Harja Ke Safar Kardam (home recording version)

Hawaye Ishqe To Az Sar

Hosnat Robayad Aab o taTaab

Imshab az Bada kharabam

Imshab Ba Bame Asoman

Imshab Ba Qesaee Dile Man

Imshab Ba Qesaee Dile Man (home recording version)

Imshab Ba Yade Roye Tu

Ishq Mani

Ishq o Mehrat

Ishqai Bemanee Dil Barey

Ishqe Man Ba Tu Bood

Its Now or Never

Jeena Yahan Marna Yahan

Jeena Yahan Marna Yahan (home recording version)

Kaash Ay Tanha Omide Zendagi

Kajakee Abroyet

Kajaki Abroyat Nesh Kazhdum

Kame Na Randayem

Karda Am Nala Base

Kas Ra Khabar Nabasha

Kashke Kashke

Kasho Bodam Lala

Kasrah Khabar Nabsha

Kay Bashad o Kay

Khabar Dari Ke Dein

Khal Ba Konje Lab Yaki

Khanda Ba Lab Haye Tura

Kharabam Ze Masti

Khodat Medani Guleman

Khodat Medani Guleman (home recording version)

Khuda Bowad Hamrahet

Khuda Bowad Yaaret

Khuda Bowad Yaret (home recording version)

Khwab Az Chashmanam Raboodi

Kist Dar Shahro Ke

Kistam Man Rahnaward

Kitna Nazuk Hai Dil

Kojaye Delbare Man

Laili Laili Laili Jaan (home recording version)

Laili Laili Laili Jan

Lar Sha Nangarhar Ta

Lewanai Zuma

Magar Khuda Ze Raqiban

Mah Ham Ze Rah Rasid

Mah Ham Ze Rah Rasid (home recording version)

Maihan ay Maihan

Man Agar Dewanaham

Man Bare Sangeenam

Man Dar in Wayrana Manzil

Man Dar Saraye Tu

Man Gholame Qamaram

Man Ghulame Qamaram (home recording version)

Man Masto To Deewana

Man Na Goyam Kai Tu Bai Mehro Wafayee

Man Nadanistam

Man Nadanistam (home recording version)

Man Nagoyam Ke Mara Az Qafas

Man nainawazam

Man Randa Ze Maikhana

Mana Goyum Kai Mara Az Qafas Azad Konai

Mara An Roz Geryan Afaridan

Mara Chun Qatrayie Ashke

Mara Dil Khoon Kardi

Mara Mara May Bede

Maranjan Delam Ra

Maranjan Dilam Ra (home recording version)

Marge man

Marge Man Roze Faraa

Mashooqa basaman shod

Mashoqa Ba Saman Shud (home recording version)

Mast Shodam Saqi

Megom Ke Dostet Darom

Megum Ke Dostet Darum (home recording version)

Megzarat

Mera Hum Dum Milgaya

Merawam Khasta o Afsorda

Merawi Az Man Labrize Feghanam

Merawi az Man o Labreze

Meri Gagan

Mikhandam Agar Imshab

Milga Yah Sultan Edo

Mobarak Mobarak Jamhoori Ma

Mordam Az Dard

Na Dil Maftoon Dilbande

Na Dil Maftoon

Na Hum Tume Jaane

Na sorode Na Soroure

Nabari goman ke mofteh

Nala Ba Dil Shod Gereh

Nala Kon Ai Dile Shorida

Namedanam Ba Roye Ki Bekhandam

Namekhaham Tura

Namikhwaham To Ra

Naro Naro Az Peyshim

Nazanine

Ne Ne Hargez Hargez

Negah Kon Negah Kon

Oba Darta Rawram, Saba Darta Pakham

Oba Dirta Rawlom

Oh Bano Bano Jana

Oh Na Razi Janan Zama

Oh Na Razi Janan Zama (home recording version)

Omaid Zindagi

Paida Shodo Paida Shod

Pas Azin Zari Makon

Pen Dashtam Gulai Khaterai Mani

Pendashotam Hamisha Gule

Pere Rased o Fasele Jawani

Piri Raseed

Piri Rasido Fasle Jawani

Porkon Peyala Ra

Poshida Chon Jan Merawi

Poshida Choon Jan Mirawi

Pyar Ka Qabil Narahai

Qadah Ra Sar Konid

Qadah Ra Sar Konid (home recording version)

Que Sera Sera

Rakra Sharab Da Sro Labaano Sanam

Raqs Bokon Shor Bede

Raw Sar Bene Ba Balin

Raw Sar Bene Ba Balin (home recording version)

Royhai Nahaistan Gujast

Roz o Shabam (Ze hadesat)

Roz o Shabam (Ze hadesat) (home recording version)

Sad Rah Dar Intezarat

Sad Rah Dar Intezarat (home recording version)

Sahar megoft o bulbul

Sakhi Jaan Merawai

Saqiya Mara Daryab

Sar Sare Poshta

Sayad Nasasat Ze Kafas Azadam

Setara Dida Fero Bast

Shab Cho Dar Bastam

Shab Hai Zulmani

Shab Haye Rawshan

Shab Haye Zolmani

Shabe Ra Ba Man

Shabe Ze Shabha

Shadi Koned Ay Dostan

Shadi Koned Hai Dostan (home recording version)

Shekast Ahde Man o Goft

Shekast Ahde Mano Goft

Shekayat Daram

Shekayat Darum (home recoring version)

Shudam Dewana Dewana

Sorma Kadi

South of the Border

Soze Qalbam Jawedani

Surma Kadi Bemorom Sura Kadi

Surode Shabangah

Ta Ba Jafayat Khosham

Taal Mile

Tan Ha Tui

Tanha Shodam Tanha

Tanha Tarin Marde Zaminam

Tanha Toye

Tanha Toye Tanha Toye (home recording version)

Tel De Wae Naseeb

Toba Toba az Shabe Hijran

Tu Ba Mani To Ba Mani

Tu Ba Mani To Ba Mani (home recording version)

Tu Ba Yak Dashte Pur Az Gul

Tu Barayem Moqadasi

Tu Barayem Moqadasi (home recording version)

Tu Dani Tu Ze Chi Jawhar

Tu Darakhtai Parwardi

Tu Gar Ba Man Yar Shawi

Tu Gule Naaze Hama

Tura Afsoone Chashmanam

Tura Sad Bar Goftam

Tura Sad Bar Guftam (home recording version)

Untitled 1—Ahmad Zahir talking to friends and saying even though we don't see each other often, our friendship and closeness remain in our hearts. He plays a song for all of his friends.

Untitled 2—Ahmad Zahir improv at family gathering

Untitled 3—Ahmad Zahir improv in Pashto, followed by a song

Untitled 4—Ahmad Zahir being humorous and goofing off with a friend, singing a humorous song

Untitled 5—Ahmad Zahir freestyle jam session

Untitled 6—Ahmad Zahir and Fakhria Zahir composing a message for Fakhria's parents

Untitled 7—Ahmad Zahir talking about a poem, starts to sing `Har Chando Ki Door As Tu o Peshe Degaranam' which means `No matter how far I am from you'

Wai Baran Baran

Waqte ke Dil Tangast

Way man Behoda ham

Yade Aan Sarwe Rawan

Yade Rozogare Shirin

Yak Dil Miga Boro (Sultane Qalbha)

Yar Az Dile Man Khabar

Yar Ba Ma Bewafaee

Yarab Ghame Be Rahmye Janan

Yarake Man Chura Khosh

You Are My Sunshine

Zabanam Ra Namefahmi

Ze Bas Ba Yade Tu Har

Ze Dastam Bar Namekhezad

Ze Dastam Bar Namekhizad

Ze Hamrahan Jedayee

Ze Jane Man Chi Mikhahi

Ze Sang Nest Qable Man

Ze Sango Nist Qalbeman

Zeba Negaram Ba Man

Zebaam Kai Barkhast

Zindagi Akher Sarayad

Zindagi Chist

Zindagi Kuch Bhi Nahi Sirf Kahaani Hai

Zindagy Akher Sarayad

Dated: January 30, 2019.
Regan A. Smith,
General Counsel and Associate Register of Copyrights.

[FR Doc. 2019-00874 Filed 2-1-19; 8:45 am]

BILLING CODE 1410-30-P